DEPARTMENT OF COMMERCE

National Oceanic and Atmospheric Administration

RIN 0648-XA346

Marine Mammals; File Nos. 14330 and 14335

AGENCY: National Marine Fisheries Service (NMFS), National Oceanic and Atmospheric Administration (NOAA), Commerce.

ACTION: Notice; issuance of permit amendments.

SUMMARY: Notice is hereby given that the following applicants have been issued major amendments to permits for research on marine mammals in Alaska: (File No. 14330) the Aleut Community of St. Paul Island, Tribal Government, Ecosystem Conservation Office, St. Paul Island, AK; and (File No. 14335) the Alaska SeaLife Center, Seward, AK.

ADDRESSES: The permit amendments and related documents are available for review upon written request or by appointment in the following offices:

Permits, Conservation and Education Division, Office of Protected Resources, NMFS, 1315 East-West Highway, Room 13705, Silver Spring, MD 20910; phone (301) 713-2289; fax (301) 713-0376; and

Alaska Region, NMFS, P.O. Box 21668, Juneau, AK 99802-1668; phone (907) 586-7221; fax (907) 586-7249.

FOR FURTHER INFORMATION CONTACT: Tammy Adams or Amy Sloan, (301) 713-2289.

SUPPLEMENTARY INFORMATION: The requested permit amendments have been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

File No. 14330. On January 4, 2011, notice was published in the Federal Register (76 FR 329) that a request for an amendment Permit No. 14330 to conduct research on Steller sea lions (Eumetopias jubatus) had been submitted by the Aleut Community of St. Paul Island. The permit has been amended to include authorization for harassment of additional Steller sea lions and harbor seals (Phoca vitulina) on St. Paul, St. George, Otter, and Walrus Islands, and Sea Lion Rock, all of the Pribilof Island group in the Bering Sea during collection of scat samples to be used for characterizing the diet of marine mammals in the region. The amendment is valid through August 31, 2014.

File No. 14335. On December 22, 2010, notice was published in the Federal Register (75 FR 80470) that a request for an amendment Permit No. 14335 to conduct research on Steller sea lions had been submitted by the Alaska SeaLife Center. The permit has been amended to revise terms and conditions related to mitigation for temporary captivity, and associated post-surgical and hot-branding monitoring.

In compliance with the National Environmental Policy Act of 1969 (42 U.S.C. 4321 et seq.), NMFS has determined that the activities proposed are consistent with the Preferred Alternative in the Final Programmatic Environmental Impact Statement for Steller Sea Lion and Northern Fur Seal Research (NMFS 2007), and that issuance of the permit amendments would not have a significant adverse impact on the human environment.

As required by the ESA, issuance of these permit amendments was based on a finding that such permit: (1) Was applied for in good faith; (2) will not operate to the disadvantage of such endangered species; and (3) is consistent with the purposes and policies set forth in section 2 of the ESA.

Dated: March 31, 2011.
P. Michael Payne,
Chief, Permits, Conservation and Education Division, Office of Protected Resources, National Marine Fisheries Service.

[FR Doc. 2011-8076 Filed 4-4-11; 8:45 am]

BILLING CODE 3510-22-P